DEPARTMENT OF HOMELAND SECURITY

Coast Guard

33 CFR Part 100

[Docket No. USCG-2025-0899]

Special Local Regulations; Recurring Marine Events, Sector St. Petersburg

AGENCY: Coast Guard, DHS.

ACTION: Notification of enforcement of regulation.

SUMMARY: The Coast Guard will enforce a special local regulation for the Gasparilla Invasion and Parade/Ye Mystic Krewe of Gasparilla on January 31, 2026, to provide for the safety of life on navigable waterways during this event. Our regulation for recurring marine events within the Captain of the Port St. Petersburg identifies the regulated area for this event in Tampa, FL. During the enforcement periods, no person or vessel may enter, transit through, anchor in, or remain within the regulated area unless authorized by the Coast Guard Patrol Commander or a designated representative.

DATES: The regulations in 33 CFR 100.703 will be enforced for the location identified in Table 1 to § 100.703, Item 1, from 9 a.m. through 6 p.m., on January 31, 2026.

FOR FURTHER INFORMATION CONTACT: If you have questions about this notice of enforcement, call or email Lieutenant Ryan McNaughton, Sector St. Petersburg, Waterways Management Division, U.S. Coast Guard; telephone 813-918-7270, email: Ryan.A.McNaughton@uscg.mil.

SUPPLEMENTARY INFORMATION: The Coast Guard will enforce the special local regulation in 33 CFR 100.703 for the Gasparilla parade regulated area identified in Table 1 to § 100.703, Item 1, from 9 a.m. through 6 p.m. on January 31, 2026. This action is being taken to provide for the safety of life on navigable waterways during this event. Our regulation for recurring marine events, Captain of the Port Sector St. Petersburg, Table 1 to § 100.703, Item 1, specifies the location of the regulated area for the Gasparilla parade, which encompasses portions of Hillsborough Bay, Seddon Channel, Sparkman Channel and Hillsborough River located in Tampa, FL. Under the provisions of 33 CFR 100.703(c), all persons and vessels are prohibited from entering the regulated area, except those persons and vessels participating in the event, unless they receive permission to do so from the Coast Guard Patrol Commander, or designated representative.

Under the provisions of 33 CFR 100.703, spectator vessels may safely transit outside the regulated area, but may not anchor, block, loiter in, impede the transit of festival participants or official patrol vessels or enter the regulated area without approval from the Coast Guard Patrol Commander or a designated representative. The Coast Guard may be assisted by other Federal, State, or local law enforcement agencies in enforcing this regulation. In addition to this notice of enforcement in the Federal Register, the Coast Guard will provide notice of the regulated area via Local Notice to Mariners, Marine Safety Information Bulletins, Broadcast Notice to Mariners, and on-scene designated representatives.

Courtney A. Sergent,
Captain, U.S. Coast Guard, Captain of the Port St. Petersburg.

[FR Doc. 2026-00257 Filed 1-8-26; 8:45 am]

BILLING CODE 9110-04-P